DEPARTMENT OF AGRICULTURE

Submission for OMB Review; Comment Request

July 30, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by September 3, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such person are not required to respond to the collection of information unless it displays a currently valid OMB control number.

Office of the Chief Financial Officer

Title: Supplier Credit Audit Recovery.

OMB Control Number: 0505-0026.

Summary of Collection: On March 10, 2010, the President signed a presidential memorandum directing all federal departments and agencies to expand and intensify their use of payment recapture audits. These are audits which offer specialized private auditors financial incentives to root out improper payments, and have been demonstrated through pilot programs to be highly effective. The Office of Management and Budget's Circular A123 Appendix C (2018), offers guidance to implement the requirements of the Improper Payments Elimination and Recovery Act of 2010, which requires agencies to conduct payment recapture audits for each program that expends more than $1 million annually. The authority for this collection can be found under the Improper Payments Elimination and Recovery Act of 2010 (124 Statute 2229, Pub. L. 111-204), under Section C, Recovery Audit Contracts.

Need and Use of the Information: The Office of the Chief Financial Officer (OCFO) sends out a letter to USDA vendors on an annual basis requesting account and payment information as to whether the vendor currently has a credit on their books due back to USDA. If the information is not collected, OCFO would not be able to identify the root cause of improper payments and would not be able to accomplishment this without verification of suspected overpayments to suppliers or vendors.

Description of Respondents: Business or other for-profit.

Number of Respondents: 10,514.

Frequency of Responses: Third party disclosure; Reporting: Semi-annually.

Total Burden Hours: 21,028.

Ruth Brown,
Departmental Information Collection Clearance Officer.

[FR Doc. 2019-16494 Filed 8-1-19; 8:45 am]

BILLING CODE 3410-KS-P